DEPARTMENT OF COMMERCE

International Trade Administration

[A-583-853]

Crystalline Silicon Photovoltaic Products, Whether or Not Assembled Into Modules, From the People's Republic of Taiwan: Notice of Initiation of Changed Circumstances Review, and Consideration of Revocation of the Antidumping Order, in Part

AGENCY: Enforcement and Compliance, International Trade Administration, Department of Commerce.

SUMMARY: Based on a request from Lutron Electronics Co., Inc. (Lutron), the U.S. Department of Commerce (Commerce) is initiating a changed circumstances review (CCR) to consider the possible revocation, in part, of the antidumping duty (AD) order on crystalline silicon photovoltaic products (solar products) from Taiwan with respect to certain small, low-wattage, off grid crystalline silicon photovoltaic (CSPV) cells as described below.

DATES: Applicable October 21, 2024.

FOR FURTHER INFORMATION CONTACT: Mark Hoadley, AD/CVD Operations, Office VII, Enforcement and Compliance, International Trade Administration, U.S. Department of Commerce, 1401 Constitution Avenue NW, Washington, DC 20230; telephone: (202) 482-3148.

SUPPLEMENTARY INFORMATION:

Background

On February 18, 2015, Commerce published the AD order on solar products from Taiwan.¹ On August 28, 2024, Lutron, a domestic producer, importer and exporter of subject merchandise, requested, through a CCR, revocation of the Order, in part, with respect to certain small, low-wattage, off-grid CSPV cells, pursuant to section 751(b)(1) of the Tariff Act of 1930, as amended (the Act), and 19 CFR 351.216(b).² Within its Lutron's CCR request, Lutron included a letter from the American Alliance for Solar Manufacturing (the Alliance), a domestic interested party in this proceeding, in which the Alliance stated that it did not oppose the partial revocation of the Order proposed by Lutron.³ No interested parties filed comments opposing the CCR request.

¹ See Certain Crystalline Silicon Photovoltaic Products from Taiwan: Antidumping Duty Order, 80 FR 8596 (February 18, 2015) (Order).

² See Lutron's Letter, “Lutron Electronics Co., Inc.'s Request for Changed Circumstances Reviews and Request to Combine Initiation and Preliminary Results,” dated August 28, 2024 (CCR Request).

³ Id. at Exhibit 2 and 3.

Scope of the Order

The merchandise covered by the Order is crystalline silicon photovoltaic cells, and modules, laminates and/or panels consisting of crystalline silicon photovoltaic cells, whether or not partially or fully assembled into other products, including building integrated materials.

Subject merchandise includes crystalline silicon photovoltaic cells of thickness equal to or greater than 20 micrometers, having a p/n junction formed by any means, whether or not the cell has undergone other processing, including, but not limited to, cleaning, etching, coating, and/or addition of materials (including, but not limited to, metallization and conductor patterns) to collect and forward the electricity that is generated by the cell.

Modules, laminates, and panels produced in a third-country from cells produced in Taiwan are covered by the Order. However, modules, laminates, and panels produced in Taiwan from cells produced in a third-country are not covered by the Order.

Excluded from the scope of the Order are thin film photovoltaic products produced from amorphous silicon (a-Si), cadmium telluride (CdTe), or copper indium gallium selenide (CIGS). Also excluded from the scope of the Order are crystalline silicon photovoltaic cells, not exceeding 10,000mm² in surface area, that are permanently integrated into a consumer good whose function is other than power generation and that consumes the electricity generated by the integrated crystalline silicon photovoltaic cells. Where more than one cell is permanently integrated into a consumer good, the surface area for purposes of this exclusion shall be the total combined surface area of all cells that are integrated into the consumer good.

Further, also excluded from the scope of the Order are any products covered by the existing antidumping and countervailing duty orders on crystalline silicon photovoltaic cells, whether or not assembled into modules, from the People's Republic of China (PRC).⁴

⁴ See Crystalline Silicon Photovoltaic Cells, Whether or Not Assembled Into Modules, from the People's Republic of China: Amended Final Determination of Sales at Less Than Fair Value, and Antidumping Duty Order, 77 FR 73018 (December 7, 2012); see also Crystalline Silicon Photovoltaic Cells, Whether or Not Assembled Into Modules, from the People's Republic of China: Countervailing Duty Order, 77 FR 73017 (December 7, 2012).

Also excluded from the scope of the Order are modules, laminates, and panels produced in the PRC from crystalline silicon photovoltaic cells produced in Taiwan that are covered by an existing proceeding on such modules, laminates, and panels from the PRC.

Additionally, excluded from the scope of these orders are solar panels that are: (1) less than 300,000mm² in surface area; (2) less than 27.1 watts in power; (3) coated across their entire surface with a polyurethane doming resin; and (4) joined to a battery charging and maintaining unit (which is an acrylonitrile butadiene styrene (ABS) box that incorporates a light emitting diode (LED)) by coated wires that include a connector to permit the incorporation of an extension cable . The battery charging and maintaining unit utilizes high-frequency triangular pulse waveforms designed to maintain and extend the life of batteries through the reduction of lead sulfate crystals. The above-described battery charging and maintaining unit is currently available under the registered trademark “SolarPulse.”

Merchandise covered by the Order is currently classified in the Harmonized Tariff Schedule of the United States (HTSUS) under subheadings 8501.61.0000, 8507.20.8030, 8507.20.8040, 8507.20.8060, 8507.20.8090, 8541.40.6020, 8541.40.6030, and 8501.31.8000. These HTSUS subheadings are provided for convenience and customs purposes; the written description of the scope of the Order is dispositive.

Proposed Partial Revocation of the Order

The products subject to the proposed revocation are certain small, low-wattage, off-grid CSPV cells that are permanently attached to an aluminum extrusion that controls natural light, whether or not assembled into a fully completed automation device that controls natural light.

Lutron requests that the following language to be added to the scope of the Order to implement the requested exclusion:

Also excluded from the scope of these investigations are off-grid CSPV panels in rigid form, with or without a glass cover, permanently attached to an aluminum extrusion that is an integral component of an automation device that controls natural light, whether or not assembled into a fully completed automation device that controls natural light, with the following characteristics:

1. A total power output of 20 watts or less per panel;

2. A maximum surface area of 1,000 cm² per panel;

3. Does not include a built-in inverter for powering third party devices.⁵

⁵ See Lutron's Letter at 3.

Initiation of CCR and Consideration of Revocation of the Order, in Part

Pursuant to section 751(b)(1) of the Act, when Commerce receives information concerning, or a request from an interested party ⁶ for a review of, a final affirmative determination that resulted in an AD order, which shows changed circumstances sufficient to warrant a review of an order, Commerce shall conduct a CCR of the order.⁷ In accordance with 19 CFR 351.216(d), Commerce determines that the information submitted by Lutron and the letter of no opposition to partial revocation of the Order with respect to the products described by Lutron constitute a sufficient basis to conduct a CCR of the Order.⁸

⁶ Lutron stated in its CCR Request that it is an U.S. importer of solar panels. As such, Lutron is an interested party pursuant to section 771(9)(A) of the Act and 19 CFR 351.102(b)(29)(ii).

⁷ See 19 CFR 351.216(d).

⁸ See CCR Request at Exhibit 2.

Section 782(h)(2) of the Act and 19 CFR 351.222(g)(1)(i) provide that Commerce may revoke an order (in whole or in part) if it determines that producers accounting for substantially all of the production of the domestic like product have expressed a lack of interest in the order, in whole or in part. In its administrative practice, Commerce has interpreted “substantially all” to mean producers accounting for at least 85 percent of the total U.S. production of the domestic like product covered by the order.⁹ One domestic interested party, the Alliance, stated that it does not object to the partial revocation of the Order proposed by Lutron.

⁹ See, e.g., Certain Cased Pencils from the People's Republic of China: Initiation and Preliminary Results of Antidumping Duty Changed Circumstances Review, and Intent To Revoke Order in Part, 77 FR 42276 (July 18, 2012), unchanged in Certain Cased Pencils from the People's Republic of China: Final Results of Antidumping Duty Changed Circumstances Review, and Determination To Revoke Order, in Part, 77 FR 53176 (August 31, 2012).

However, because the Alliance did not indicate whether it accounts for substantially all of the U.S. production of the domestic like product covered by the Order, we are not combining this notice of initiation with a preliminary determination, pursuant to 19 CFR 351.221(c)(3)(ii).¹⁰ Rather, we will provide interested parties with an opportunity to address the issue of domestic industry support with respect to the partial revocation of the Order, as explained below. After examining comments, if any, concerning domestic industry support, we will issue the preliminary results of this CCR.

¹⁰ In the event that Commerce determines an expedited action is warranted, 19 CFR 351.221(c)(3)(ii) permits Commerce to combine the notices of initiation and preliminary results.

Public Comment

Interested parties are invited to provide comments and/or factual information regarding this CCR, including comments on industry support and the proposed partial revocation language. Comments and factual information may be submitted to Commerce no later than 14 days after the date of publication of this notice. Rebuttal comments and rebuttal factual information may be filed with Commerce no later than seven days after the comments and/or factual information are filed.¹¹ All submissions must be filed electronically using Enforcement and Compliance's Antidumping and Countervailing Duty Centralized Electronic Service System (ACCESS).¹² An electronically filed document must be received successfully in its entirety by ACCESS, by 5 p.m. Eastern Time on the due dates set forth in this notice. Note that Commerce has temporarily modified certain requirements for serving documents containing business proprietary information, until further notice.¹³

¹¹ Submissions of rebuttal factual information must comply with 19 CFR 351.301(b)(2).

¹² See, generally, 19 CFR 351.303.

¹³ See 19 CFR 351.309(d); see also Administrative Protective Order, Service, and Other Procedures in Antidumping and Countervailing Duty Proceedings, 88 FR 67069, 67077 (September 29, 2023).

Preliminary and Final Results of the CCR

Commerce intends to publish in the Federal Register a notice of the preliminary results of this CCR in accordance with 19 CFR 351.221(b)(4) and (c)(3)(i). Commerce will set forth its preliminary factual and legal conclusions in that notice. Pursuant to 19 CFR 351.221(b)(4)(ii), interested parties will have an opportunity to comment on the preliminary results. Unless extended, Commerce will issue the final results of this CCR in accordance with the time limits set forth in 19 CFR 351.216(e).

Notification to Interested Parties

This initiation notice is published in accordance with section 751(b)(1) of the Act, 19 CFR 351.216(b) and 19 CFR 351.221(c)(3).

Dated: October 15, 2024.
Scot Fullerton,
Acting Deputy Assistant Secretary for Antidumping and Countervailing Duty Operations.

[FR Doc. 2024-24299 Filed 10-18-24; 8:45 am]

BILLING CODE 3510-DS-P